DEPARTMENT OF ENERGY

Federal Energy Regulatory Commission

[Docket No. RP00-555-002]

Dominion Transmission, Inc.; Notice of Compliance Filing

January 5, 2001.

Take notice that on January 2, 2001, Dominion Transmission, Inc. (DTI) tendered for filing as part of its FERC Gas Tariff, Third Revised Volume No. 1, the following tariff sheet, with an effective date of September 23, 2000.

Substitute Original Sheet No. 1092.

DTI states that the filing is made as a compliance filing pursuant to the Commission's December 15, 2000 order in the captioned proceedings. 93 FERC ¶61,284 (2000). As directed by the Commission, DTI has stated in its tariff that information regarding its shared personnel and facilities is available on its website. In addition, DTI included a ministerial change, updating phone numbers in a related complaint procedures tariff provision. DTI proposes an effective date of September 23, 2000, for the filed tariff sheet to coincide with the effective date of the remainder of its original Third Revised Volume No. 1.

DTI states that copies of its filing have been served upon DTI's customers and interested state commissions.

Any person desiring to protest said filing should file a protest with the Federal Energy Regulatory Commission, 888 First Street, NE., Washington, DC 20426, in accordance with Section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Comments and protests may be filed electronically via the internet in lieu of paper. See, 18 CFR 385.2001(a)(1)(iii) and the instructions on the Commission's web site at http://www.ferc.fed.us/efi /doorbell.htm.

David P. Boergers,
Secretary.

[FR Doc. 01-850 Filed 1-10-01; 8:45 am]

BILLING CODE 6717-01-M